DEPARTMENT OF TRANSPORTATION

Federal Aviation Administration

Environmental Impact Statement: Sitka Rocky Gutierrez Airport, Sitka, AK

AGENCY: Federal Aviation Administration (FAA) DOT.

ACTION: Supplement notice of intent.

SUMMARY: The Federal Aviation Administration announces that it will prepare an Environmental Impact Statement (EIS) for implementation of actions proposed at the Sitka Rocky Gutierrez Airport. Public and Agency Scoping Meetings will be conducted for the Federal Aviation Administration to receive comments regarding the preparation of the EIS.

Responsible Official: Patricia A. Sullivan, Environmental Specialist, Federal Aviation Administration, Alaskan Region, Airports Division, 222 W. 7th Avenue, #14, Anchorage, AK 99513-7587.

FOR FURTHER INFORMATION CONTACT: Ryk Dunkelberg, Project Manager, Barnard Dunkelberg & Company, Cherry Street Building, 1616 East Fifteenth Street, Tulsa, Oklahoma 74120, Phone: 918/585-8844, e-mail: sitkaeis@bd-c.com.

To Submit Written Comments, Send To: Assistant Project Manager, Barnard Dunkelberg & Company, 1430 Larimer Square, Suite 203, Denver, Colorado 80202, Phone: 303/825-8844; e-mail: sitkaeis@bd-c.com.

SUPPLEMENTARY INFORMATION: The Federal Aviation Administration published a Notice of Intent on December 12, 2002, to prepare an EIS for implementation of proposed actions at the Sitka Rocky Gutierrez Airport. The revised list of major actions proposed to be assessed in the EIS include improvements to the Runway Safety Area; installation of an Approach Light System; construction of a parallel taxiway; construction of a Seaplane Pullout; and repairs and improvements to the Airport's Seawall.

To ensure that the full range of issuers related to the proposed actions are addressed and that all significant issues are identified, FAA intends to consult and coordinate with the public, tribal governments, Federal, State and local agencies that have jurisdiction by law or have specific expertise with respect to any environmental impacts associated with the proposed projects.

A general Public Scoping Meeting will be held in the City of Sitka at Centennial Hall at 6:30 p.m. July 27th, 2004. Notification of the scoping meeting will be published in the Juneau Empire, and the Daily Sitka Sentinel. In addition to providing input at the public scoping meeting, the public and agencies may submit written comments to the address in To Submit Written Comments, Send To. Comments should be submitted within 60 days of the publication of this notice.

Issued in Anchorage, Alaska, on June 23, 2004.
Byron K. Huffman,
Manager, Airports Division, AAL-600.

[FR Doc. 04-16104 Filed 7-14-04; 8:45 am]

BILLING CODE 4910-13-M